DEPARTMENT OF ENERGY

Federal Energy Regulatory Commission

Notice Soliciting Written Scoping Comments

August 9, 2001.

Take notice that the following hydroelectric application has been filed with the Commission and is available for public inspection:

a. Type of Application: Subsequent License for Minor Project.

b. Project No.: 719-007.

c. Date filed: October 31, 2000.

d. Applicant: Trinity Conservancy, Inc.

e. Name of Project: Trinity Power Project.

f. Location: On Phelps Creek and James Creek in the Columbia River Basin in Chelan County, near Leavenworth, Washington. The project occupies 47.9 acres of federal lands in Wenatchee National Forest.

g. Filed Pursuant to: Federal Power Act 16 U.S.C. 791 (a)-825(r).

h. Applicant Contact: Reid L. Brown, President, Trinity Conservancy, Inc., 3139 E. Lake Sammamish SE, Sammamish, WA 98075-9608, (425) 392-9214.

i. FERC Contact: Charles Hall, (202) 219-2853 or Charles.Hall@FERC.fed.us.

j. Deadline for scoping comments: September 14, 2001.

All documents (original and eight copies) should be filed with: David P. Boergers, Secretary, Federal Energy Regulatory Commission, 888 First Street, NE, Washington, DC 20426 and should clearly show the following on the first page: Trinity Power Project, FERC No. 719. Scoping comments may be filed electronically via the Internet in lieu of paper. See 18 CFR 385.2001(a)(1)(iii) and the instructions on the Commission's web site at http://www.ferc.gov, under the “e-Filing” link.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application has been accepted, but is not ready for environmental analysis at this time.

l. The Trinity Project consists of: (1) A deteriorated wooden diversion dam, 70-foot-long flume and settling tank on James Creek, and a 3,350-foot-long, partially destroyed steel penstock, all of which is proposed for decommissioning with this license application; (2) a 45-foot-long, 10-foot-high timber crib diversion dam and screened intake on Phelps Creek; (3) a 24-inch-diameter, 6,000-foot-long, gravity-flow, steel pipe aqueduct; (4) a 20-foot-long, 14-foot-wide, 9-foot-deep, reinforced concrete settling tank; (5) a 42-inch-to 12-inch-diameter, 2,750-foot-long, riveted spiral-wound penstock; (6) a 145-foot-long, 34-foot-wide, wood-frame powerhouse building containing a single Pelton impulse turbine and 240-kilowatt synchronous generator; (7) a tailrace; and (8) appurtenant facilities. The generator supplies the electricity needs of four residences, a cabin and shed; the project is not connected to the electric transmission grid. The licensee proposes to remove the inoperable James Creek diversion facilities from the project boundary accordingly.

m. A copy of the application is on file with the Commission and is available for inspection. This filing may also be viewed on the web at http://ferc.gov using the “RIMS” link—select “Docket #” and follow the instructions (call (202) 208-2222 for assistance). A copy is also available for inspection and reproduction at the address in item h above.

n. Scoping Process: The Commission intends to prepare an Environmental Assessment (EA) on the project in accordance with the National Environmental Policy Act. We are asking agencies, Native American tribes, non-governmental organizations, and individuals to help us identify the scope of environmental issues that should be analyzed in the EA, and to provide us with information that may be useful in preparing the EA. To help focus comments on the environmental issues, a scoping document outlining subject areas to be addressed in the EA will soon be mailed to those on the mailing list for the project.

Those not on the mailing list may request a copy of the scoping document from the FERC Contact, whose telephone number is listed above.

Linwood A. Watson, Jr.,
Acting Secretary.

[FR Doc. 01-20460 Filed 8-14-01; 8:45 am]

BILLING CODE 6717-01-P